DEPARTMENT OF DEFENSE

Department of the Navy

Notice of Availability of Government-Owned Inventions; Available for Licensing

AGENCY: Department of the Navy, DoD.

ACTION: Notice.

SUMMARY: The Department of the Navy (DoN) announces the availability of the inventions listed below, assigned to the United States Government, as represented by the Secretary of the Navy, for domestic and foreign licensing by the Department of the Navy.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, Email Christopher.Monsey@navy.mil.

SUPPLEMENTARY INFORMATION: The following patents are available for licensing: Patent No. 8,857,157 (Navy Case No. 200273): STAND-OFF CHARGE SYSTEM INCLUDING AN ATTACHMENT BRACKET AND RELATED METHODS//Patent No. 9,860,694 (Navy Case No. 200352): COMPUTING PLATFORM METHOD AND APPARATUS FOR TRANSMITTING DATA COMMUNICATION VIA RADIO ACCESS POINT//Patent No. 9,874,625 (Navy Case No. 102054): ELECTROMAGNETIC RADIATION SOURCE LOCATING SYSTEM//Patent No. 9,874,858 (Navy Case No. 103103): AUTOMATION CONTROL SYSTEM AND A METHOD IN AN AUTOMATION CONTROL SYSTEM//Patent No. 9,876,969 (Navy Case No. 200347): ELECTROMAGNETIC (EM) POWER DENSITY AND FIELD CHARACTERIZATION TECHNIQUE//and Patent No. 9,877,208 (Navy Case No. 200240): SYSTEM AND METHODS FOR UNOBTRUSIVELY AND RELOCATEABLY EXTENDING COMMUNICATION COVERAGE AND SUPPORTING UNMANNED AERIAL VEHICLE (UAV) ACTIVITIES.

Authority: 35 U.S.C. 207, 37 CFR part 404.

Dated: February 13, 2018.
E.K. Baldini,
Lieutenant Commander, Judge Advocate General's Corps, U.S. Navy, Federal Register Liaison Officer.

[FR Doc. 2018-03442 Filed 2-20-18; 8:45 am]

BILLING CODE 3810-FF-P